DEPARTMENT OF EDUCATION

[Docket No.: ED-2021-SCC-0108]

Agency Information Collection Activities; Submission to the Office of Management and Budget for Review and Approval; Comment Request; Impact Evaluation of Teacher Residency Programs

AGENCY: Institute of Education Sciences (IES), Department of Education (ED).

ACTION: Notice.

SUMMARY: In accordance with the Paperwork Reduction Act of 1995, ED is proposing a revision of a currently approved collection.

DATES: Interested persons are invited to submit comments on or before November 15, 2021.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Meredith Bachman, (202) 245-7494.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Impact Evaluation of Teacher Residency Programs.

OMB Control Number: 1850-0960.

Type of Review: Revision of a currently approved collection.

Respondents/Affected Public: State, Local, and Tribal Governments.

Total Estimated Number of Annual Responses: 637.

Total Estimated Number of Annual Burden Hours: 394.

Abstract: The U.S. Department of Education (ED)'s Institute of Education Sciences (IES) requests clearance for data collection activities to support a study of teacher residency programs. Teacher residency programs aim to better prepare new teachers by combining education coursework with extensive on-the-job training. Program participants complete a full-year apprenticeship, or “residency,” under the supervision of an experienced mentor teacher before they become teachers of record. The programs help meet the needs of their partner districts by preparing teachers to fill shortages in high-needs schools and subjects. They offer financial support for residents in exchange for a commitment to teach for at least three to five years in the district, in an effort to improve teacher retention. This financial support may also help expand the pool of teacher candidates by encouraging people to enter the profession who might be deterred by the cost of a traditional teacher preparation program. This second request covers additional data collection activities for the study to examine program outcomes. A prior request (1850-0960, approved 4/26/2021) covered the collection of classroom rosters from schools to support random assignment of students to participating teachers.

Dated: October 12, 2021.
Stephanie Valentine,
PRA Coordinator, Strategic Collections and Clearance, Governance and Strategy Division, Office of Chief Data Officer, Office of Planning, Evaluation and Policy Development.

[FR Doc. 2021-22493 Filed 10-14-21; 8:45 am]

BILLING CODE 4000-01-P